NATIONAL FOUNDATION OF THE ARTS AND THE HUMANITIES

Institute of Museum and Library Services

Sunshine Act Meeting of the National Museum and Library Services Board

AGENCY: Institute of Museum and Library Services (IMLS), NFAH.

ACTION: Notice of meeting.

SUMMARY: The National Museum and Library Services Board, which advises the Director of the Institute of Museum and Library Services in awarding national awards and medals, will meet by teleconference on February 15, 2017, to review nominations for the 2017 National Medals for Museum and Library Service.

DATE AND TIME: Wednesday, February 15, at 11:30 a.m. EST.

PLACE: The meeting will be held by teleconference originating at the IMLS Offices, 955 L'Enfant Plaza North SW., Suite 4000, Washington, DC 20024.

STATUS: Closed. This meeting will be closed pursuant to subsections (c)(4) and (c)(9) of subsection 552b of Title 5, United States Code because the Board will consider information that may disclose: Trade secrets and commercial or financial information obtained from a person and privileged or confidential; and information the premature disclosure of which would be likely to significantly frustrate implementation of a proposed agency action.

FOR FURTHER INFORMATION CONTACT: Katherine Maas, Program Specialist, Institute of Museum and Library Services, Suite 4000, 955 L'Enfant Plaza North SW., Washington, DC 20024. Telephone: (202) 653-4798. Please provide advance notice of any special needs or accommodations.

Dated: January 24, 2017.
Nancy E. Weiss,
General Counsel.

[FR Doc. 2017-01972 Filed 1-31-17; 8:45 am]

BILLING CODE 7036-01-M